DEPARTMENT OF THE INTERIOR

Fish and Wildlife Service

[FWS-R2-ES-2012-N053; FXES11130200000F5-123-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. The Act and the National Environmental Policy Act also require that we invite public comment before issuing these permits.

DATES: To ensure consideration, written comments must be received on or before April 20, 2012.

ADDRESSES: Marty Tuegel, Section 10 Coordinator, by U.S. mail at Division of Endangered Species, U.S. Fish and Wildlife Service, P.O. Box 1306, Room 6034, Albuquerque, NM at (505) 248-6920. Please refer to the respective permit number for each application when submitting comments.

FOR FURTHER INFORMATION CONTACT: Susan Jacobsen, Chief, Endangered Species Division, P.O. Box 1306, Albuquerque, NM 87103; (505) 248-6651.

SUPPLEMENTARY INFORMATION:

Public Availability of Comments

The Act (16 U.S.C. 1531 et seq.) prohibits activities with endangered and threatened species unless a Federal permit allows such activities. Along with our implementing regulations in the Code of Federal Regulations (CFR) at 50 CFR 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-64115A

Applicant: Bureau of Land Management, Yuma, Arizona.

Applicant requests a new permit for research and recovery purposes to conduct presence/absence surveys for Yuma clapper rail (Rallus longirostris yumanensis) within Arizona.

Permit TE-64595A

Applicant: Gulf South Research Corporation, Baton Rouge, Louisiana.

Applicant requests a new permit for research and recovery purposes to collect genetic material from Sneed Pincushion cactus (Coryphantha sneedii sneedii) and Lee Pincushion cactus (Coryphantha sneedii leei) within New Mexico and Texas.

Permit TE-64968A

Applicant: Apex Companies, LLC, Oklahoma City, Oklahoma.

Applicant requests a new permit for research and recovery purposes to conduct presence/absence surveys, bait aways, trapping and relocation of American burying beetle (Nicrophorus americaus) within Oklahoma, Texas, South Dakota, Nebraska, Kansas, and Arkansas.

Permit TE-841353

Applicant: Loomis Partners, Inc., Austin, Texas.

Applicant requests an amendment to a current permit for capture, removal, and release of Houston Toad (Bufo houstonensis) related to FEMA operations within Bastrop County, Texas.

Permit TE-227185

Applicant: Andrew Eastty, San Diego, California.

Applicant requests an amendment to a current permit for research and recovery purposes to conduct presence/absence surveys of southwestern willow flycatcher (Empidonax traillii extimus) within Arizona, New Mexico, and Texas.

Permit TE-144755

Applicant: Reagan Smith Energy Solutions, Inc., Oklahoma City, Oklahoma.

Applicant requests an amendment to a current permit for research and recovery purposes to conduct presence/absence surveys, mist netting, and trapping for gray bat (Myotis grisescens) and Indiana bat (Myotis sodalis) within Arkansas, Texas, Louisiana, Alabama, Mississippi, Kentucky, Florida, South Carolina, Georgia, Oklahoma, North Carolina, and Tennessee.

Permit TE-800611

Applicant: SWCA Environmental Consultants, San Antonio, Texas.

Applicant requests an amendment to a current permit for capture, removal, and release of Houston Toad (Bufo houstonensis) related to FEMA operations within Bastrop County, Texas.

Permit TE-66060A

Applicant: Janine A. Spencer, Tucson, Arizona.

Applicant requests a new permit for research and recovery purposes to conduct presence/absence surveys for southwestern willow flycatcher (Empidonax traillii extimus) within Arizona.

Permit TE-840214

Applicant: Luminant Power, Dallas, Texas.

Applicant requests an amendment to a current permit for research and recovery purposes to conduct presence/absence surveys of interior least tern (Sterna antillarum) at Turlington Mine (Freestone County), Kossee Mine (Robertson and Limestone Counties), and Bremond Mine (Robertson County) within Texas.

Permit TE-65178A

Applicant: Jennifer L. Reidy, Columbia, Missouri.

Applicant requests a new permit for research and recovery purposes to conduct presence/absence surveys, point counts, nest searches, nest monitoring, mist netting, and banding of golden-cheeked warbler (Dendroica chrysoparia) within Texas.

Permit TE-66055A

Applicant: The Navajo Nation dba The Navajo Nation Zoological & Botanical Park, Window Rock, Arizona.

Applicant requests a new permit for research and recovery purposes to hold and exhibit Razorback sucker (Xyrauchen texanus), and Colorado pikeminnow (Ptychocheilus lucius) at the zoo in Arizona.

Permit TE-821577

Applicant: Arizona Game and Fish Department, Phoenix, Arizona.

Applicant requests an amendment to a current permit for research and recovery purposes to conduct presence/absence surveys of loach minnow (Tiaroga cobitis) and spikedace (Meda fulgida) in Arizona.

Permit TE-815409

Applicant: New Mexico Department of Game and Fish, Santa Fe, New Mexico.

Applicant requests an amendment to a current permit for research and recovery purposes to conduct presence/absence surveys of loach minnow (Tiaroga cobitis) and spikedace (Meda fulgida) in New Mexico.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority: We provide this notice under section 10 of the Act (16 U.S.C. 1531 et seq.)

Dated: March 13, 2012.
Joy E. Nicholopoulos,
Acting Regional Director, Southwest Region.

[FR Doc. 2012-6777 Filed 3-20-12; 8:45 am]

BILLING CODE 4310-55-P